DEPARTMENT OF ENERGY

Federal Energy Regulatory Commission

[Project No. 13124-003]

Notice of Application Tendered for Filing With the Commission; Copper Valley Electric Association, Inc.

Take notice that the following hydroelectric application has been filed with the Commission and is available for public inspection.

a. Type of Application: Major License.

b. Project No.: P-13124-003.

c. Date filed: August 30, 2011.

d. Applicant: Copper Valley Electric Association, Inc..

e. Name of Project: Allison Creek Hydroelectric Project.

f. Location: On Allison Creek, near the Town of Valdez, Alaska.

g. Filed Pursuant to: Federal Power Act 16 U.S.C. 791 (a)—825(r) .

h. Applicant Contact: Robert A. Wilkinson, CEO, Copper Valley Electric Association, Inc., P.O. Box 45, Mile 187 Glenn Highway Glennallen, AK 99588, (907) 822-3211.

i. FERC Contact: Kim A. Nguyen, kim.nguyen@ferc.gov, (202) 502-6105.

j. Cooperating agencies: Federal, State, local, and tribal agencies with jurisdiction and/or special expertise with respect to environmental issues that wish to cooperate in the preparation of the environmental document should follow the instructions for filing such requests described in item k below. Cooperating agencies should note the Commission's policy that agencies that cooperate in the preparation of the environmental document cannot also intervene. See, 94 FERC ¶ 61,076 (2001).

k. Deadline for cooperating agency status: October 31, 2011.

All documents may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street, NE., Washington, DC 20426.

l. The application is not ready for environmental analysis (EA) at this time.

m. The Allison Creek Project consists of: (1) A 16-foot-high, 95-foot-wide concrete gravity diversion structure spanning Allison Creek with a 50-foot-wide spillway section; (2) a screen intake; (3) a 42-inch-diameter, 500-foot-long buried and 7,200-foot-long surface steel penstock; (4) a 65 foot x 65 foot powerhouse with one 6.5-megawatt turbine/generating unit; (5) a permanent 550-foot-long access road to the powerhouse; (6) a 3.8-mile-long, 34.5-kilovolt transmission line connecting to the Copper Valley switching station near the Petro Star facility along Dayville Road; and (7) appurtenant facilities. The average annual generation is estimated to be 23.3 gigawatt-hours.

n. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

You may also register online at http://www.ferc.gov/docs-filing/esubscription.asp to be notified via e-mail of new filings and issuances related to this or other pending projects. For assistance, contact FERC Online Support.

o. With this notice, we are initiating consultation with the Alaska State Historic Preservation Officer (SHPO), as required by 106, National Historic Preservation Act, and the regulations of the Advisory Council on Historic Preservation, 36, CFR, at 800.4.

p. Procedural schedule: The application will be processed according to the following preliminary Hydro Licensing Schedule. Revisions to the schedule will be made as appropriate.

Issue Tendering Notice: September 2011.

Issue Notice of Acceptance and Soliciting Comments, Terms and Conditions, Recommendations, and Prescriptions: October 2011.

Issue Draft EA: August 2012.

Comments on Draft EA: September 2012.

Issue Final EA: December 2012.

Dated: September 13, 2011.
Kimberly D. Bose,
Secretary.

[FR Doc. 2011-24020 Filed 9-19-11; 8:45 am]

BILLING CODE 6717-01-P